DEPARTMENT OF THE INTERIOR

Bureau of Land Management

[OR-125-06-1430-EU; GP6-0124]

Direct Sale of Public Land, OR 60470

AGENCY: Bureau of Land Management (BLM), Coos Bay District.

ACTION: Notice of realty action.

SUMMARY: A 33.85 parcel in Coos County, Oregon, is being considered for direct sale to the Oregon International Port of Coos Bay (the Port). The parcel proposed for sale is identified as suitable for disposal in the Coos Bay District Resource Management Plan & Environmental Impact Statement and Record of Decision, dated May 1995, as supplemented and amended.

DATES: All comments must be received in writing by the BLM on or before September 5, 2006.

ADDRESSES: Address all written comments concerning this notice to Elaine Raper, Umpqua Field Manager, Bureau of Land Management, 1300 Airport Lane, North Bend, Oregon 97459. Electronic format submittals will not be accepted.

FOR FURTHER INFORMATION CONTACT: Linda Petterson, Realty Specialist, at the above address or phone (541) 756-0100.

SUPPLEMENTARY INFORMATION: The following described public land in Coos County, Oregon, is suitable for sale under Section 203 and Section 209 of the Federal Land Policy and Management Act of 1976 (90 Stat. 2750, 43 U.S.C. 1713 and 1719):

Willamette Meridian, Oregon

T. 25 S., R. 13 W.,

Sec. 4, lot 7.

The area described contains 33.85 acres, more or less. This parcel will be sold at no less than the appraised market value, which has been determined to be $350,000. The land will not be offered for sale until at least 60 days after publication of this notice.

In accordance with 43 CFR 2711.3-3, public lands may be offered for direct sale when the tract is identified for transfer to a State or local government. The Port plans to market the site for economic development that will benefit the Coos County area. No significant resource values will be affected by this disposal. The sale is consistent with the BLM's planning for the land involved and the public interest will be served by the sale.

The Port is an instrumentality of the State of Oregon, and is authorized to hold property in the State of Oregon.

The Port will be allowed 30 days from receipt of a written offer to submit a deposit of at least 20 percent of the appraised value of the parcel, and within 180 days thereafter submit the balance. Payment must be made in U.S. currency. If the balance of the purchase price is not received within the 180 days, the deposit shall be forfeited to the United States and the parcel will be declared unsold and reoffered on a continuing basis in accordance with the competitive sale procedures described in 43 CFR 2711.3-1.

The purchaser will be required to reimburse the BLM for the cost of publishing this Notice in the Federal Register and the newspaper notification. Payment for reimbursement of all publishing costs will be due along with the final payment of the sale parcel. Payments must be by certified check, postal money order, bank draft, or cashier's check payable to the “U.S. Department of the Interior, BLM”. Failure to meet conditions established for this sale will void the sale and any monies received will be forfeited.

Acceptance of the direct sale offer constitutes an application for conveyance of the mineral estate in accordance with Section 209 of the Federal Land Policy and Management Act of 1976 (43 U.S.C. 1719). A nonrefundable fee of $50.00 will be required from the purchaser for purchase of the mineral interests. Those mineral interests, to be conveyed simultaneously with the sale of the land, have been determined to have no known mineral value.

The following rights, reservations, and conditions will be included in the patent conveying the land:

1. A reservation to the United States for a right-of-way for ditches and canals constructed by the authority of the United States, Act of August 30, 1890 (43 U.S.C. 945).

2. The sale is for surface and subsurface estate with the following reservations: The patent will contain a reservation to the United States for all leasable minerals, together with the right to prospect for, mine and remove the same.

3. A covenant running with the land for that the portion of the land lying within the southeast corner of the property containing wetland-riparian habitat must be managed to protect and maintain the wetland-riparian habitat on a continuing basis.

4. The patent will be issued subject to all valid existing rights and reservations of record.

5. The patent would also include a notice and indemnification statement under the Comprehensive Environmental Response, Compensation and Liability Act (42 U.S.C. 9620) holding the United States harmless from any release of hazardous materials that may have occurred as a result of the unauthorized use of the property by other parties.

6. Reservation OR 36509 to the United States Army Corps of Engineers for roads and dredging range structures.

7. Right-of-way OR 37075 to Coos County for a road, utilities and slope easement.

The above described land is hereby segregated from appropriation under the public land laws, including the mining laws, pending disposition of this action or 270 days from the date of publication of this notice in the Federal Register, whichever occurs first.

Public Comments

Detailed information concerning the sale, including the reservations, sale procedures and conditions, and planning and environmental documents, is available at the Coos Bay District Office, 1300 Airport Lane, North Bend, OR 97459.

Objections will be reviewed by the Coos Bay District Manager who may sustain, vacate, or modify this realty action. In absence of any objections, this realty action will become the final determination of the Department of the Interior.

Comments, including names, street addresses, and other contact information of respondents, will be available for public review. Individual respondents may request confidentiality. If you wish to request that the BLM consider withholding your name, street address, and other contact information (such as: Internet address, FAX or phone number) from public review or from disclosure under the Freedom of Information Act, you must state this prominently at the beginning of your comment. The BLM will honor requests for confidentiality on a case-by-case basis to the extent allowed by law. Anonymous comments will not be accepted. The BLM will make available for public inspection in their entirety all submissions from organizations or businesses, and from individuals identifying themselves as representatives or officials of organizations or businesses.

(Authority: 43 CFR 2711.1-2(a)).

Dated: May 11, 2006.
M. Elaine Raper,
Umpqua Field Manager.

[FR Doc. E6-11449 Filed 7-18-06; 8:45 am]

BILLING CODE 4310-33-P